DEPARTMENT OF TRANSPORTATION

Federal Aviation Administration

14 CFR Part 39

[Docket No. FAA-2008-0444; Directorate Identifier 2008-CE-024-AD]

RIN 2120-AA64

Airworthiness Directives; Viking Air Limited Models DHC-2 Mk. I, DHC-2 Mk. II, and DHC-3 Airplanes

AGENCY: Federal Aviation Administration (FAA), Department of Transportation (DOT).

ACTION: Notice of proposed rulemaking (NPRM).

SUMMARY: We propose to adopt a new airworthiness directive (AD) for the products listed above that would supersede an existing AD. This proposed AD results from mandatory continuing airworthiness information (MCAI) originated by an aviation authority of another country to identify and correct an unsafe condition on an aviation product. The MCAI describes the unsafe condition as:

A complete loss of both ignition systems occurred on a DHC-3 Otter when the lock wire hole in the ignition connector plug on the firewall broke out, allowing the plug to vibrate loose. A maintenance safety feature grounds out both magneto systems through a spring-loaded safety pin incorporated into the Cannon plug. The DHC-2 system is similar in design.

Subsequent to the issuance of AD CF-2001-36 a complete loss of both ignition systems occurred on a DHC-2 Beaver resulting in engine failure and subsequent forced approach and landing. Investigation by the Transportation Safety Board determined the internal failure of the magneto firewall connector resulted in both magneto “P” leads shorting to ground. A maintenance “safety” feature through a spring-loaded safety pin incorporated in the firewall connector on many DHC-2 aircraft grounds out both magneto systems when the connector is disconnected. This connector type is readily identified when disconnected by the existence of three internal pins on the firewall and magneto harness side, one of which is shorted directly to ground.

The proposed AD would require actions that are intended to address the unsafe condition described in the MCAI.

DATES: We must receive comments on this proposed AD by May 19, 2008.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone (800) 647-5527) is in the ADDRESSES section. Comments will be available in the AD docket shortly after receipt.

FOR FURTHER INFORMATION CONTACT: Fabio Buttitta, Aerospace Engineer, FAA, New York Aircraft Certification Office, 1600 Stewart Avenue, Suite 410, Westbury, New York 11590; telephone: (516) 228-7303; fax: (516) 794-5531.

SUPPLEMENTARY INFORMATION:

Comments Invited

We invite you to send any written relevant data, views, or arguments about this proposed AD. Send your comments to an address listed under the ADDRESSES section. Include “Docket No. FAA-2008-0444; Directorate Identifier 2008-CE-024-AD” at the beginning of your comments. We specifically invite comments on the overall regulatory, economic, environmental, and energy aspects of this proposed AD. We will consider all comments received by the closing date and may amend this proposed AD because of those comments.

We will post all comments we receive, without change, to http://regulations.gov, including any personal information you provide. We will also post a report summarizing each substantive verbal contact we receive about this proposed AD.

Discussion

On October 12, 2004, we issued AD 2004-21-06, Amendment 39-13827 (69 FR 61758, October 21, 2004). That AD required actions intended to address an unsafe condition on the products listed above.

Since we issued AD 2004-21-06, the manufacturer has developed a modification kit to replace the magneto firewall connector with parts of improved design.

Transport Canada, which is the aviation authority for Canada, has issued AD No. CF-2001-36R1, dated January 21, 2008, and AD No. CF-2001-37R, dated January 21, 2008 (referred to after this as “the MCAI”), to correct an unsafe condition for the specified products. The MCAI states:

A complete loss of both ignition systems occurred on a DHC-3 Otter when the lock wire hole in the ignition connector plug on the firewall broke out, allowing the plug to vibrate loose. A maintenance safety feature grounds out both magneto systems through a spring-loaded safety pin incorporated into the Cannon plug. The DHC-2 system is similar in design.

Subsequent to the issuance of AD CF-2001-36 a complete loss of both ignition systems occurred on a DHC-2 Beaver resulting in engine failure and subsequent forced approach and landing. Investigation by the Transportation Safety Board determined the internal failure of the magneto firewall connector resulted in both magneto “P” leads shorting to ground. A maintenance “safety” feature through a spring-loaded safety pin incorporated in the firewall connector on many DHC-2 aircraft ground out both magneto systems when the connector is disconnected. This connector type is readily identified when disconnected by the existence of three internal pins on the firewall and magneto harness side, one of which is shorted directly to ground.

These connectors are no longer in production.

Since no effective Instructions for Continued Airworthiness exist to ensure the safety feature of these connectors will operate correctly when disconnected, or will ensure the internal integrity of the connector while in service, this directive is revised to mandate replacement of connectors with a different design.

Viking Air Limited has developed SB V2/0001 to provide for the installation of a replacement connector, similar in design to magneto systems in service today. This modification incorporates a “straight through” type connector, ensuring magneto circuit integrity should the connection open.

You may obtain further information by examining the MCAI in the AD docket.

Relevant Service Information

Viking Air Limited has issued the following service bulletins:

• Viking DHC-2 Beaver Service Bulletin Number V2/0001, dated June 27, 2007; and

• Viking DHC-3 Otter Service Bulletin Number V3/0001, dated June 27, 2007.

The actions described in this service information are intended to correct the unsafe condition identified in the MCAI.

FAA's Determination and Requirements of the Proposed AD

This product has been approved by the aviation authority of another country, and is approved for operation in the United States. Pursuant to our bilateral agreement with this State of Design Authority, they have notified us of the unsafe condition described in the MCAI and service information referenced above. We are proposing this AD because we evaluated all information and determined the unsafe condition exists and is likely to exist or develop on other products of the same type design.

Differences Between This Proposed AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a NOTE within the proposed AD.

Costs of Compliance

We estimated that this proposed AD will affect 159 products of U.S. registry. We also estimate that it would take about 10 work-hours per product to comply with the basic requirements of this proposed AD. The average labor rate is $80 per work-hour. Required parts would cost about $881 per product.

Based on these figures, we estimate the cost of the proposed AD on U.S. operators to be $267,279, or $1,681 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-13827 (69 FR 61758; October 21, 2004), and adding the following new AD:

Viking Air Limited: Docket No. FAA-2008-0444; Directorate Identifier 2008-CE-024-AD.

Comments Due Date

(a) We must receive comments by May 19, 2008.

Affected ADs

(b) This AD supersedes AD 2004-21-06, Amendment 39-13827.

Applicability

(c) This AD applies to the following model and serial number airplanes certificated in any category:

Model | Serial No.
DHC-2 Mk. I | All.
DHC-2 Mk. II | All.
DHC-3 | All serial numbers with piston engines.

Subject

(d) Air Transport Association of America (ATA) Code 26: Fire Protection.

Reason

(e) The mandatory continuing airworthiness information (MCAI) states:

A complete loss of both ignition systems occurred on a DHC-3 Otter when the lock wire hole in the ignition connector plug on the firewall broke out, allowing the plug to vibrate loose. A maintenance safety feature grounds out both magneto systems through a spring-loaded safety pin incorporated into the Cannon plug. The DHC-2 system is similar in design.

Subsequent to the issuance of AD CF-2001-36 a complete loss of both ignition systems occurred on a DHC-2 Beaver resulting in engine failure and subsequent forced approach and landing. Investigation by the Transportation Safety Board determined the internal failure of the magneto firewall connector resulted in both magneto “P” leads shorting to ground. A maintenance “safety” feature through a spring-loaded safety pin incorporated in the firewall connector on many DHC-2 aircraft ground out both magneto systems when the connector is disconnected. This connector type is readily identified when disconnected by the existence of three internal pins on the firewall and magneto harness side, one of which is shorted directly to ground.

These connectors are no longer in production.

Since no effective Instructions for Continued Airworthiness exist to ensure the safety feature of these connectors will operate correctly when disconnected, or will ensure the internal integrity of the connector while in service, this directive is revised to mandate replacement of connectors with a different design.

Viking Air Limited has developed SB V2/0001 to provide for the installation of a replacement connector, similar in design to magneto systems in service today. This modification incorporates a “straight through” type connector, ensuring magneto circuit integrity should the connection open.

Actions and Compliance

(f) Inspect the connector plugs on the fore side of the firewall for security and the connector plug lockwire to ensure it is intact and the holes in the plugs are not broken out or cracked. Initially inspect within the next 100 hours time-in-service (TIS) after December 6, 2004 (the compliance date retained from AD 2004-21-06). Repetitively inspect thereafter at intervals not to exceed 100 hours TIS until the modification required in paragraph (h) of this AD is done. Do the inspections following deHavilland Beaver Alert Service Bulletin Number A2/53, Revision B, dated May 28, 2004; and deHavilland Otter Alert Service Bulletin Number A3/53, Revision B, dated May 28, 2004, as applicable.

(g) During any inspection required in paragraph (f) of this AD, if the lockwire holes or the lockwire is found damaged, install Modification Kit Number C2VMK0001-1 or Modification Kit Number C3VMK0001-1, as applicable. Install the modification kit before further flight following the Accomplishment Instructions in Viking DHC-2 Beaver Service Bulletin Number V2/0001, dated June 27, 2007; and Viking DHC-3 Otter Service Bulletin Number V3/0001, dated June 27, 2007, as applicable. Installing the modification kit terminates the repetitive inspections required in paragraph (f) of this AD.

(h) Unless already done, replace the magneto firewall connector by installing Modification Kit Number C2VMK0001-1 or Modification Kit Number C3VMK0001-1, as applicable. Install the modification kit within the next 6 months after the effective date of this AD following the Accomplishment Instructions in Viking DHC-2 Beaver Service Bulletin Number V2/0001, dated June 27, 2007; and Viking DHC-3 Otter Service Bulletin Number V3/0001, dated June 27, 2007, as applicable. Installing the modification kit terminates the repetitive inspections required in paragraph (f) of this AD.

FAA AD Differences

Note: This AD differs from the MCAI and/or service information as follows: AD 2004-21-06 required incorporating repetitive inspections of the connector plugs and the connector plug lockwire on the fore side of the firewall into the maintenance program while the MCAI required incorporating Temporary Revision No. 14, dated August 24, 2001, into the applicable maintenance manual in order to incorporate the repetitive inspections into the maintenance program.

Other FAA AD Provisions

(i) The following provisions also apply to this AD:

(1) Alternative Methods of Compliance (AMOCs): The Manager, New York Aircraft Certification Office (ACO), FAA, has the authority to approve AMOCs for this AD, if requested using the procedures found in 14 CFR 39.19. Send information to ATTN: Fabio Buttitta, Aerospace Engineer, FAA, New York ACO, 1600 Stewart Avenue, Suite 410, Westbury, New York 11590; telephone: (516) 228-7303; fax: (516) 794-5531. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(j) Refer to MCAI Transport Canada AD No. CF-2001-36R1, dated January 21, 2008; and AD No. CF-2001-37R, dated January 21, 2008; and Viking Air Limited DHC-2 Beaver Service Bulletin Number V2/0001, dated June 27, 2007; and Viking Air Limited DHC-3 Otter Service Bulletin Number V3/0001, dated June 27, 2007; for related information.

Issued in Kansas City, Missouri, on April 11, 2008.
James E. Jackson,
Acting Manager, Small Airplane Directorate, Aircraft Certification Service.

[FR Doc. E8-8365 Filed 4-17-08; 8:45 am]

BILLING CODE 4910-13-P